DEPARTMENT OF ENERGY

Federal Energy Regulatory Commission

[Docket No. EF25-10-000]

Southwestern Power Administration; Notice of Filing

Take notice that on August 21, 2025, Southwestern Power Administration submitted a tariff filing: RDW-23, Wholesale Rates for Hydro Power and Energy at Robert D. Willis Hydropower Project—Rate Order No. WAPA-88, to be effective October 1, 2025.

Any person desiring to intervene or to protest this filing must file in accordance with Rules 211 and 214 of the Commission's Rules of Practice and Procedure (18 CFR 385.211, 385.214). Protests will be considered by the Commission in determining the appropriate action to be taken but will not serve to make protestants parties to the proceeding. Any person wishing to become a party must file a notice of intervention or motion to intervene, as appropriate. Such notices, motions, or protests must be filed on or before the comment date. On or before the comment date, it is not necessary to serve motions to intervene or protests on persons other than the Applicant.

The Commission strongly encourages electronic filings of comments, protests and interventions in lieu of paper using the “eFiling” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Comment Date: 5:00 p.m. Eastern Time on September 22, 2025.

Dated: August 26, 2025.
Debbie-Anne A. Reese,
Secretary.

[FR Doc. 2025-16635 Filed 8-28-25; 8:45 am]

BILLING CODE 6717-01-P